DEPARTMENT OF JUSTICE

Office of Justice Programs

[OJP (OVC) Docket No. 1619]

Meeting of the SANE/SART AI/AN Initiative Committee

AGENCY: Office for Victims of Crime, Justice.

ACTION: Notice of meeting.

SUMMARY: The National Coordination Committee on the American Indian/Alaska Native (AI/AN) Sexual Assault Nurse Examiner (SANE)—Sexual Assault Response Team (SART) Initiative (“”National Coordination Committee” or “Committee”) will meet to carry out its mission to provide valuable advice to assist the Office for Victims of Crime (OVC) to promote culturally relevant, victim-centered responses to sexual violence within AI/AN communities.

DATES AND LOCATIONS: The meeting will be held via webinar on Wednesday, April 17, 2013. The Webinar is open to the public for participation. There will not be a designated time for the public to speak, however the public can observe and submit comments to Kathleen Gless, the Designated Federal Official. Webinar space is limited. To register for the webinar, please provide your full contact information to Kathleen Gless (contact information below).

FOR FURTHER INFORMATION CONTACT: Kathleen Gless, Designated Federal Officer (DFO) for the National Coordination Committee, Office for Victims of Crime, Office of Justice Programs, 810 7th Street NW., Washington, DC 20531; Phone: (202) 307-6049 [note: this is not a toll-free number]; Email: kathleen.gless@usdoj.gov.

SUPPLEMENTARY INFORMATION: The National Coordination Committee on the American Indian/Alaskan Native (AI/AN) Sexual Assault Nurse Examiner (SANE)—Sexual Assault Response Team (SART) Initiative (“National Coordination Committee” or “Committee”) was established by the Attorney General to provide valuable advice to OVC to encourage the coordination of federal, tribal, state, and local efforts to assist victims of sexual violence within AI/AN communities, and to promote culturally relevant, victim-centered responses to sexual violence within those communities.

Webinar Agenda: The agenda will include: (a) Traditional welcome and introductions; (b) remarks from the Acting Director of OVC; (c) updates on OVC, FBI and IHS efforts since the December 2012 Committee meeting; (d) large group discussion; (e) the development of recommendations regarding the coordination of federal, tribal and local partners to address sexual violence; and (f) a traditional closing.

Kathleen Gless,
Victim Justice Program Specialist, AI/AN SANE-SART Lead, Designated Federal Official—National Coordination Committee, Office for Victims of Crime.

[FR Doc. 2013-06383 Filed 3-19-13; 8:45 am]

BILLING CODE 4410-18-P